DEPARTMENT OF TRANSPORTATION

Federal Highway Administration

Notice of Availability of Environmental Assessment for Washington, DC to Baltimore Loop Project

AGENCY: Federal Highway Administration (FHWA), DOT.

ACTION: Notice of availability.

SUMMARY: The FHWA is announcing the availability of the Environmental Assessment (Draft) for public review. The Environmental Assessment (Draft) was prepared for the Washington, DC to Baltimore Loop Project, and was submitted by the Maryland Department of Transportation State Highway Administration (MDOT SHA) in conjunction with The Boring Company, a private company. The Environmental Assessment (Draft) was prepared pursuant to the National Environmental Policy Act of 1969 (NEPA). The project is also being reviewed under Section 106 of the National Historic Preservation Act, and a draft Section 106 Programmatic Agreement (PA) has been prepared for the project. Interested parties are invited to comment on both the Environmental Assessment (Draft) and the draft PA.

DATES: Comments on the Environmental Assessment (Draft) and the draft PA must be received on or before June 10, 2019.

ADDRESSES: You may submit comments by any of the following methods:

• Project Website: https://www.dcbaltimoreloop.com. Follow the instructions for submitting comments on the website.

• Mail: Ms. Donna Buscemi, Maryland Department of Transportation State Highway Administration, 707 N. Calvert Street, MS C-301, Baltimore, MD 21202. Please include “Washington, DC to Baltimore Loop Project” in your subject line.

Electronic copies may be downloaded from the Project website and hard copies of the Environmental Assessment (Draft) and the draft PA may also be viewed at the following locations, by appointment only:

• FHWA Maryland Division, George H. Fallon Federal Building, 31 Hopkins Plaza, Baltimore, MD 21201, (410) 962-4440.

• FHWA District of Columbia Division, 1200 New Jersey Avenue SE, East Building, Washington, DC 20590.

FOR FURTHER INFORMATION CONTACT: Ms. Donna Buscemi, Project Sponsor Liaison, Maryland Department of Transportation State Highway Administration, Office of Planning and Preliminary Engineering, 707 N Calvert Street, MS C-301, Baltimore, MD 21202, (410) 545-8500.

SUPPLEMENTARY INFORMATION: The Washington, DC to Baltimore Loop Project is proposed, and will be completely funded by, The Boring Company. The purpose of the proposed action is to construct an alternative, high speed option for traveling between Washington, District of Columbia, and Baltimore, Maryland.

The Proposed Action consists of the construction of approximately 35.3 miles of parallel, twin underground tunnels (Main Artery Tunnels) between Washington, DC and Baltimore, MD. The proposed project would extend beneath public right-of-way of the Route 50 and Baltimore-Washington Parkway, with termini at 55 New York Avenue Northeast in Washington, DC and Oriole Park at Camden Yards, 333 Camden Street, Baltimore, MD.

Battery-powered, autonomous electric vehicles, traveling at speeds of up to 150 miles per hour, would transport passengers in the Main Artery Tunnels between the two termini. Proposed project components include: Two access points at the Washington, DC and Baltimore, MD termini; two Main Artery Tunnels; up to 70 ventilation shafts; and 4 launch shaft sites for tunnel boring machines, at least one of which would be converted into a maintenance terminal for autonomous electric vehicles pods.

The Environmental Assessment (Draft) evaluates the existing environmental conditions within the project area, along with the potential environmental impacts of the No Build and Build alternatives for the proposed project.

Issued on: April 18, 2019.
Gregory Murrill,
Division Administrator, Federal Highway Administration.

[FR Doc. 2019-08245 Filed 4-23-19; 8:45 am]

BILLING CODE 4910-22-P